NUCLEAR REGULATORY COMMISSION

[Docket Nos. 50-456; 50-457; 50-259; 50-260; 50-296; 50-275; 50-323; 50-315; 50-316; 50-331; 50-341; 50-263; 50-282; 50-306; 72-010; 50-184; 50-266; 50-301; 50-335; 50-389; 50-443; 50-395; 50-250; 50-251; NRC-2020-0110]

Issuance of Multiple Exemptions in Response to COVID-19 Public Health Emergency

AGENCY: Nuclear Regulatory Commission.

ACTION: Exemptions; issuance.

SUMMARY: The U.S. Nuclear Regulatory Commission (NRC) issued 13 exemptions in response to requests from 12 licensees. The exemptions allow these licensees temporary relief from certain requirements under NRC regulations. The exemptions are in response to the coronavirus disease 2019 (COVID-19) public health emergency (PHE). The NRC is issuing a single notice to announce the issuance of the exemptions.

DATES: The 13 exemptions were issued between July 6, 2020, and July 30, 2020.

ADDRESSES: Please refer to Docket ID NRC-2020-0110 when contacting the NRC about the availability of information regarding this document. You may obtain publicly-available information related to this document using any of the following methods:

• Federal Rulemaking Website: Go to https://www.regulations.gov and search for Docket ID NRC-2020-0110. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

The NRC issued 13 exemptions to 12 licensees in response to requests dated between June 11, 2020, and July 23, 2020. These exemptions temporarily allow the licensees to deviate from certain requirements (as cited below) of various parts of chapter I of title 10 of the Code of Federal Regulations (10 CFR).

The exemptions from certain requirements of 10 CFR part 26, “Fitness for Duty Programs,” for NextEra Energy Duane Arnold, LLC (for Duane Arnold Energy Center); NextEra Energy Point Beach, LLC (for Point Beach Nuclear Plant, Units 1 and 2); NextEra Energy Seabrook, LLC (for Seabrook Station, Unit 1); and Florida Power & Light Company (for St. Lucie Plant, Unit Nos. 1 and 2; and Turkey Point Nuclear Generating Units 3 and 4) support the continued effectiveness of licensees' fitness for duty programs during the COVID-19 PHE. For 10 CFR 26.119(a), 26.165(b)(5), 26.169(a), 26.185(d)(3), and 26.185(p), flexibility is afforded by permitting a reasonable increase in the time to complete required activities. For 10 CFR 26.189(c), flexibility is afforded by permitting the use of an alternative method to conduct a determination of fitness for cause. The limited scope of the exemptions from these requirements, relatively short duration of the exemption period, licensee controls, and NRC conditions provide reasonable assurance that the above licensees will continue to meet the fitness for duty performance objectives described in the regulations in 10 CFR part 26.

The exemption from certain requirements of 10 CFR part 26 for DTE Electric Company (for Fermi 2) allows the licensee temporary relief from the work-hour controls under 10 CFR 26.205(d)(1) through (d)(7). This temporary exemption is an extension of a previous NRC-approved exemption (letter dated May 14, 2020, ADAMS Accession No. ML20133K055). The NRC determined that, because of the impacts the COVID-19 PHE has had on the licensee's ability to comply with the work-hour controls of 10 CFR 26.205(d), the importance of maintaining the operations of Fermi 2, and the controls the licensee has established, granting the requested exemption, as extended, was in the public interest.

The exemption from certain requirements of 10 CFR part 50, appendix E, “Emergency Planning and Preparedness for Production and Utilization Facilities,” section VI.F.2.b, related to biennial emergency preparedness exercises for the National Institute of Standards and Technology (for the National Bureau of Standards Test Reactor) does not adversely affect the emergency response capability of the test reactor facility because all personnel are currently qualified for all tasks, and the proposed compensatory measures will maintain their knowledge, skills, and abilities without the conduct of the biennial emergency preparedness exercise during the exemption term. The exemption also allows the affected licensee personnel to continue to be available to perform their functions during the COVID-19 PHE.

The exemptions from certain requirements of 10 CFR part 73 for Exelon Generation Company, LLC (for Braidwood Station, Units 1 and 2); Tennessee Valley Authority (for Browns Ferry Nuclear Plant, Units 1, 2, and 3); Pacific Gas and Electric Company (for Diablo Canyon Nuclear Power Plant, Units 1 and 2); Indiana Michigan Power Company (for Donald C. Cook Nuclear Plant, Units 1 and 2); Northern States Power Company (for Monticello Nuclear Generating Plant; Prairie Island Nuclear Generating Plant, Units 1 and 2, and Prairie Island Independent Spent Fuel Storage Installation (ISFSI)); and Dominion Energy South Carolina, Inc. (for Virgil C. Summer Nuclear Station, Unit 1) allow these licensees temporary exemptions from certain requirements of 10 CFR part 73, appendix B, “General Criteria for Security Personnel,” section VI. The exemptions will help to ensure that these regulatory requirements do not unduly limit licensee flexibility in using personnel resources in a manner that most effectively manages the impacts of the COVID-19 PHE on maintaining the safe and secure operation of these facilities and the implementation of a licensee's NRC-approved security plans, protective strategy, and implementing procedures. These licensees have committed to certain security measures to ensure response readiness and for their security personnel to maintain performance capability.

The exemption from certain requirements of 10 CFR part 73 for Northern States Power Company (for the Prairie Island ISFSI) allows this licensee temporary exemption from certain requirements of 10 CFR part 73, appendix B, sections I, II, and IV. This licensee has committed to certain measures to ensure its security forces maintain their proficiency and readiness to adequately implement the licensee's protective strategies and protect the site.

The NRC is providing compiled tables of exemptions using a single Federal Register notice for COVID-19-related exemptions instead of issuing individual Federal Register notices for each exemption. The compiled tables below provide transparency regarding the number of exemptions the NRC has issued. Additionally, the NRC publishes tables of approved regulatory actions related to the COVID-19 PHE on its public website at https://www.nrc.gov/about-nrc/covid-19/reactors/licensing-actions.html.

II. Availability of Documents

The tables below provide the facility name, docket number, document title, and ADAMS accession number for each exemption issued. Additional details on each exemption issued, including the exemption request submitted by the respective licensee and the NRC's decision, are provided in each exemption approval listed in the tables below. For additional directions on accessing information in ADAMS, see the ADDRESSES section of this document.

Braidwood Station, Units 1 and 2—Docket Nos. 50-456 and 50-457
Document title | ADAMS accession No.
Braidwood Station, Units 1 and 2, Request for Exemption from Certain 10 CFR [part] 73 Training Requirements Due to Coronavirus 2019 Public Health Emergency, dated June 15, 2020 | ML20167A321 (non-public, withheld under 10 CFR 2.390).
Braidwood Station, Units 1 and 2—Exemption Request From Certain Requirements of 10 CFR [p]art 73, Appendix B, “General Criteria for Security Personnel” [COVID-19] (EPID L-2020-LLE-0100), dated July 9, 2020 | ML20169A348.

Browns Ferry Nuclear Plant, Units 1, 2, and 3—Docket Nos. 50-259, 50-260, and 50-296
Document title | ADAMS accession No.
Browns Ferry Nuclear Plant, Units 1, 2, and 3, Request for Exemption from the Annual Force on Force Training Requirements of 10 CFR [part] 73, Appendix B, Section VI, Due to the COVID-19 Public Health Emergency, dated June 19, 2020 | ML20174A281.
Browns Ferry Nuclear Plant, Units 1, 2 and 3—Exemption Request from Certain Requirements of 10 CFR [p]art 73, Appendix B, “General Criteria from Security Personnel,” Section VI (EPID L-2020-LLE-0105 [COVID-19]), dated July 6, 2020 | ML20175A198.

Diablo Canyon Nuclear Power Plant, Units 1 and 2—Docket Nos. 50-275 and 50-323
Document title | ADAMS accession No.
Diablo Canyon Power Plant, Units 1 and 2—Request for Exemption from Specific Requirements of 10 CFR [part] 73, Firearms Requalification, dated July 21, 2020 | ML20203M197 (non-public, withheld under 10 CFR 2.390).
Diablo Canyon Nuclear Power Plant, Units 1 and 2, Exemption from Certain Requirements of 10 CFR [p]art 73, Appendix B, “General Criteria For Security Personnel,” Section VI (EPID L-2020-LLE-0117 [COVID-19]), dated July 30, 2020 | ML20209A050.

Donald C. Cook Nuclear Plant, Units 1 and 2—Docket Nos. 50-315 and 50-316
Document title | ADAMS accession No.
Donald C. Cook Nuclear Plant Units 1 and 2, Temporary Exemption Request from Security Training Requalification Requirements of 10 CFR [p]art 73, Appendix B, Section VI, dated June 18, 2020 | ML20177A375 (non-public, withheld under 10 CFR 2.390).
Donald C. Cook Nuclear Plant, Unit 1 and Unit 2—Supplement to Temporary Request from Security Training Requalification Requirements of 10 CFR [p]art 73, Appendix B, Section VI, dated July 6, 2020 | ML20191A170.
Donald C. Cook Nuclear Plant, Units 1 and 2—Temporary Exemption from Certain Requirements of 10 CFR [p]art 73, Appendix B, “General Criteria For Security Personnel,” Section VI (EPID L-2020-LLE-0104 [COVID-19]), dated July 21, 2020 | ML20171A686.

Duane Arnold Energy Center—Docket No. 50-331
Document title | ADAMS accession No.
NextEra Energy Duane Arnold, LLC Exemption Request for Access Authorization and Fitness for Duty Requirements due to COVID-19 Pandemic, dated May 21, 2020 (this letter was superseded and replaced with the letter dated June 15, 2020) | ML20142A192 (non-public, withheld under to 10 CFR 2.390).
Duane Arnold Energy Center—Supplement to Exemption Request for Access Authorization and Fitness for Duty Requirements Due to COVID-19 Pandemic, dated June 15, 2020 | ML20167A262.
Duane Arnold Energy Center—Approval of Exemption from Certain Requirements of 10 CFR [p]art 26, Fitness for Duty Programs (EPID L-2020-LLE-0079 [COVID-19]), dated July 24, 2020 | ML20202A594.

Fermi-2—Docket No. 50-341
Document title | ADAMS accession No.
Fermi Unit 2 Work Hour Limits Exemption Request Due to COVID-19 Supplement, dated July 6, 2020 | ML20188A339.
Fermi 2 Work Hour Limits Exemption Request due to COVID-19 Revised Second Supplement, dated July 11, 2020 | ML20193A003.
Fermi, Unit 2—Extension of Exemption from Select Requirements of 10 CFR [p]art 26 (EPID L-2020-LLE-0109 [COVID-19]), dated July 14, 2020 | ML20192A180.

Monticello Nuclear Generating Plant
Prairie Island Nuclear Generating Plant, Units 1 and 2
Prairie Island ISFSI—Docket Nos. 50-263, 50-282, 50-306, and 72-010
Document title | ADAMS accession No.
Monticello and Prairie Island, Units 1 and 2 and Prairie Island ISFSI, COVID-19 10 CFR [part] 73 Security Training and Requalification Exemption Request, dated June 25, 2020 | ML20177A372 (non-public, withheld under 10 CFR 2.390).
Monticello and Prairie Island, Units 1 and 2 and Prairie Island ISFSI, NSPM COVID-19 Security Exemption Supplement, dated July 14, 2020 | ML20197A005 (non-public, withheld under 10 CFR 2.390).
Monticello and Prairie Island, Units 1 and 2 and Prairie Island ISFSI—Exemption Request from Certain Requirements of 10 CFR [p]art 73, Appendix B, “General Criteria for Security Personnel,” Sections I, II, IV, and VI (EPID L-2020-LLE-0108 [COVID-19]), dated July 22, 2020 | ML20184A013.

National Bureau of Standards Test Reactor—Docket No. 50-184
Document title | ADAMS accession No.
National Institute of Standards and Technology—Exemption Request for Emergency Exercise Final, dated July 23, 2020 | ML20206K842 (package).
National Institute of Standards and Technology—Exemption [Request] for Emergency Exercise Supplement to [July 23, 2020] Letter Final, dated July 24, 2020 | ML20210M006 (package) (non-public, withheld under 10 CFR 2.390).
National Institute of Standards and Technology; Approval of Exemption from Requirements of 10 CFR [p]art 50, Appendix E, Section IV.F.2 Related to Biennial Emergency Exercises [COVID-19], dated July 29, 2020 | ML20209A326.

Point Beach Nuclear Plant, Units 1 and 2—Docket Nos. 50-266 and 50-301
Document title | ADAMS accession No.
Point Beach Nuclear Plant, Units 1 and 2—Exemption Request for Access Authorization and Fitness for Duty Requirements due to COVID-19 Pandemic, dated May 21, 2020 (this letter was superseded and replaced with the letter dated June 12, 2020) | ML20142A369 (non-public, withheld under 10 CFR 2.390).
Point Beach Nuclear Plant, Units 1 and 2, Supplement to Exemption Request for Access Authorization and Fitness for Duty Requirements due to COVID-19 Pandemic, dated June 12, 2020 | ML20164A187.
Point Beach Nuclear Plant, Units 1 and 2—Approval of Exemption from Certain Requirements of 10 CFR Part 26, Fitness for Duty Programs (EPID L-2020-LLE-0080 [COVID-19]), dated July 24, 2020 | ML20202A531.

St. Lucie Plant, Unit Nos. 1 and 2—Docket Nos. 50-335 and 50-389
Document title | ADAMS accession No.
St. Lucie Nuclear Plant, Units 1 and 2, Exemption Request for Access Authorization and Fitness for Duty Requirements due to COVID-19 Pandemic, dated May 21, 2020 (this letter was superseded and replaced with the letter dated June 12, 2020) | ML20142A477 (non-public, withheld under 10 CFR 2.390).
St. Lucie Nuclear Plant, Units 1 and 2—Exemption Request for Access Authorization and Fitness for Duty Requirements due to COVID-19 Pandemic, dated June 12, 2020 | ML20164A055.
St. Lucie Nuclear Plant, Unit Nos. 1 and 2 Exemption Request from Certain Requirements of Title 10 Code of Federal Regulations part 26, Fitness-for-Duty Programs (EPID L-2020-LLE-0078 [COVID-19]), dated July 23, 2020 | ML20190A157.

Seabrook Station, Unit 1—Docket No. 50-443
Document title | ADAMS accession No.
Seabrook Station—Exemption Request for Access Authorization and Fitness for Duty Requirements due to COVID-19 Pandemic, dated May 27, 2020 (this letter was superseded and replaced with the letter dated June 16, 2020) | ML20149K615 (non-public, withheld under 10 CFR 2.390.
Seabrook Station—Supplement to Exemption Request for Access Authorization and Fitness for Duty Requirements Due to COVID-19 Pandemic, dated June 16, 2020 | ML20169A728.
Seabrook Station, Unit No. 1—Approval of Exemption from Certain Requirements of 10 CFR [p]art 26, “Fitness for Duty Programs” (EPID L-2020-LLE-0091 [COVID-19]), dated July 30, 2020 | ML20202A509.

Virgil C. Summer Nuclear Station, Unit 1—Docket No. 50-395
Document title | ADAMS accession No.
Virgil C. Summer (VCS), Unit 1—Request for Exemption from Select Requirements of 10 CFR [p]art 73, Appendix B, Section B, dated June 25, 2020 | ML20181A188 (non-public, withheld under 10 CFR 2.390).
Virgil C. Summer Nuclear Station, Unit 1—Temporary Exemption from Certain Requirements of 10 CFR [p]art 73, Appendix B, “General Criteria for Security Personnel,” Section VI (EPID L-2020-LLE-0106 [COVID-19]), dated July 10, 2020 | ML20182A718.

Turkey Point Nuclear Generating Unit Nos. 3 and 4—Docket Nos. 50-250 and 50-251
Document title | ADAMS accession No.
Turkey Point Nuclear Plant, Units 3 and 4—Exemption Request for Access Authorization and Fitness for Duty Requirements due to COVID-19 Pandemic, dated May 21, 2020 (this letter was superseded and replaced with the letter dated June 11, 2020) | ML20142A272.
Turkey Point Nuclear Plant, Units 3 and 4, Supplement to Exemption Request for Access Authorization and Fitness for Duty Requirements due to COVID-19 Pandemic, dated June 11, 2020 | ML20163A226.
Turkey Point Nuclear Plant, Units 3 and 4—Approval of Exemption from Certain Requirements of 10 CFR [p]art 26, “Fitness For Duty Programs” (EPID L-2020-LLE-0068 [COVID-19]), dated July 30, 2020 | ML20204A765.

Dated: August 21, 2020.
For the Nuclear Regulatory Commission.
James G. Danna,
Chief, Plant Licensing Branch I, Division of Operating Reactor Licensing, Office of Nuclear Reactor Regulation.

[FR Doc. 2020-18815 Filed 8-26-20; 8:45 am]

BILLING CODE 7590-01-P